DEPARTMENT OF HEALTH AND HUMAN SERVICES

Advisory Council on Alzheimer's Research, Care, and Services; Meeting

AGENCY: Assistant Secretary for Planning and Evaluation, HHS.

ACTION: Notice of meeting.

SUMMARY: This notice announces the public meeting of the Advisory Council on Alzheimer's Research, Care, and Services (Advisory Council). The Advisory Council on Alzheimer's Research, Care, and Services provides advice on how to prevent or reduce the burden of Alzheimer's disease and related dementias on people with the disease and their caregivers. During the April meeting, the Advisory Council will hear a presentation from an international partner on their efforts to address Alzheimer's disease. There will be a presentation on the priorities set during the May 2012 research summit and the milestones for achieving the 2025 goal. The federal partners will provide an update on progress implementing the National Plan to Address Alzheimer's Disease and discuss highlights of the 2013 Update to the National Plan.

DATES: The meeting will be held on April 29, 2013 from 9:00 am to 5:00 pm EDT.

ADDRESSES: The meeting will be held at the U.S. Department of Health and Human Services, 200 Independence Avenue SW., Room 800, Washington, DC 20201.

Comments: Time is allocated on the agenda to hear public comments. In lieu of oral comments, formal written comments may be submitted for the record to Helen Lamont, Ph.D., OASPE, 200 Independence Avenue SW., Room 424E, Washington, DC 20201. Comments may also be sent to napa@hhs.gov. Those submitting written comments should identify themselves and any relevant organizational affiliations.

FOR FURTHER INFORMATION CONTACT: Helen Lamont, Ph.D. (202) 690-7996, helen.lamont@hhs.gov. Note: Seating may be limited. Those wishing to attend the meeting must send an email to napa@hhs.gov and put “April 29 meeting attendance” in the Subject line by Friday, April 19, 2013, so that their names may be put on a list of expected attendees and forwarded to the security officers at the Department of Health and Human Services. Any interested member of the public who is a non-U.S. citizen should include this information at the time of registration to ensure that the appropriate security procedure to gain entry to the building is carried out. Although the meeting is open to the public, procedures governing security and the entrance to Federal buildings may change without notice. If you wish to make a public comment, you must note that within your email.

SUPPLEMENTARY INFORMATION: Notice of these meetings is given under the Federal Advisory Committee Act (5 U.S.C. App. 2, section 10(a)(1) and (a)(2)). Topics of the Meeting: The Advisory Council will hear a presentation from an international partner on their efforts to address Alzheimer's disease and will discuss ways to collaboration internationally. There will be a presentation on the priorities set during the May 2012 research summit and the milestones for achieving the 2025 goal. The federal partners will provide an update on progress implementing the National Plan to Address Alzheimer's Disease and discuss highlights of the 2013 Update to the National Plan.

Procedure and Agenda: This meeting is open to the public.

Authority: 42 U.S.C. 11225; Section 2(e)(3) of the National Alzheimer's Project Act. The panel is governed by provisions of Public Law 92-463, as amended (5 U.S.C. Appendix 2), which sets forth standards for the formation and use of advisory committees.

Dated: March 22, 2013.
Donald Moulds,
Acting Assistant Secretary for Planning and Evaluation.

[FR Doc. 2013-07428 Filed 4-3-13; 8:45 am]

BILLING CODE P